DEPARTMENT OF TRANSPORTATION

National Highway Traffic Safety Administration

[NHTSA Docket No. NHTSA-2006-26249]

Brain Injury Symposium Agenda

AGENCY: National Highway Traffic Safety Administration (NHTSA), DOT.

ACTION: Agenda for the Meeting Notice.

SUMMARY: The National Highway Traffic Safety Administration (NHTSA) announced a two day Brain Injury Symposium to be held in Washington, DC (Federal Register/Vol. 71, No. 217/ Thursday, November 9, 2006/Notices). This notice supplements the agenda for the symposium (see the previous announcement for further information, NHTSA-2006-26249:1).

DATES: February 26 and 27, 2007 starting at 9 a.m. on Monday, February 26 and ending at 5 p.m. on Tuesday, February 27, 2007.

ADDRESSES: The meeting will be held at: L'Enfant Plaza Hotel, 480 L'Enfant Plaza, SW., Washington, DC 20024.

FOR FURTHER INFORMATION: Erik Takhounts, PhD, Office of Applied Vehicle Safety Research, Human Injury Research Division, National Highway Traffic Safety Administration, 400 Seventh Street, SW., Washington, DC 20590. Telephone number (202) 366-4737; E-mail Erik.Takhounts@dot.gov.

SUPPLEMENTARY INFORMATION:

Program

Day 1: Monday, February 26, 2007

Room—Quorum

8 a.m.-9 a.m. Refreshments.

9 a.m.-9:15 a.m. Opening Remarks.

R. Medford. Senior Associate Administrator, National Highway Traffic Safety Administration “Welcoming remarks.”

9:15 a.m.-10:15 a.m. Session I.

S. Ridella, Human Injury Research Division, National Highway Traffic Safety Administration “Overview of NHTSA activities related to brain injury research.”

E. Takhounts, Human Injury Research Division, National Highway Traffic Safety Administration “Brain injury research at NHTSA: modeling efforts.”

T. Gennare III, Medical College of Wisconsin, “Overview of previous and current research in brain injury biomechanics.”

10:15 a.m.-10:35 a.m. Break.

10:35 a.m.-11:35 a.m. Session II.

A. King, Wayne State University, “Overview of WSU current research: modeling, tissue level injuries.”

R. Willinger, University of Louis Pasteur-Strasbourg, “Overview of ULP head injury criteria research and European perspectives.”

11:35 a.m.-1:30 p.m. Lunch [on your own]

1:30 p.m.-3 p.m. Session III.

J. Melvin, Tandelta, “Brain injuries in race car drivers.”

R. Nightingale, Duke University, “Neck as a delivery device for head; pediatric brain research.”

S. Margulies, University of Pennsylvania, “Pediatric brain injury research; tissue level brain injuries.”

3 p.m.-3:20 p.m. Break.

3:20 p.m.-4:20 p.m. Session IV.

S. Duma, Virginia Tech, “Brain injuries in college football players.”

B. Morrison III, Columbia University, “Advances in cellular brain injury biomechanics.”

4:20 p.m.-5 p.m. Discussion and Concluding Remarks.

Ridella/Takhounts: Announcements of the working groups for the next day: Injury Mechanisms and Criteria, Modeling, and Dummy development; discussion of the presentations and working groups, selection of the group members and conformation of leaders.

Day 2: Tuesday, February 27, 2007

Rooms—Montcalm, Lasalle, Lafayette

8 a.m.-9 a.m. Refreshments.

9 a.m.-12 p.m. Working in Breakout Groups.

Discussion of the respective topics, research needs for the short-, mid-, and long-terms.

10:30 a.m.-10:50 a.m. Break.

Continuing discussion of the respective topics.

12 p.m.-1:30 p.m. Lunch [on your own].

1:30 p.m.-3 p.m. Working in Breakout Groups.

Preparation of the resolution in each group.

3 p.m.-3:20 p.m. Break.

3:20 p.m.-5 p.m. Discussion and Concluding Remarks.

BALL Rooms C and D.

Ridella/Takhounts: Putting it all together, concluding remarks.

Issued on: January 25, 2007.
William T. Hollowell,
Director, Office of Applied Vehicle Safety Research.

[FR Doc. E7-1491 Filed 1-30-07; 8:45 am]

BILLING CODE 4910-59-P